DEPARTMENT OF TRANSPORTATION

Federal Aviation Administration

14 CFR Part 39

[Docket No. FAA-2024-0464; Project Identifier MCAI-2022-01556-T; Amendment 39-22875; AD 2024-22-04]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is superseding Airworthiness Directive (AD) 2021-09-03, which applied to certain Airbus Canada Limited Partnership Model BD-500-1A10 and BD-500-1A11 airplanes. AD 2021-09-03 required repetitive replacements of the emergency locator transmitter (ELT) antenna and repetitive inspections of the exterior fuselage skin around the ELT antenna attachment area. This AD was prompted by a report that there was an in-service failure of an ELT antenna that occurred before the repetitive replacement interval required by AD 2021-09-03, and that a terminating action was developed. This AD continues to require the actions in AD 2021-09-03 and requires replacement of the ELT antenna with a new ELT antenna, inspection of the exterior fuselage skin around the ELT antenna attachment holes, and repair if necessary; as specified in a Transport Canada AD, which is incorporated by reference. The FAA is issuing this AD to address the unsafe condition on these products.

DATES: This AD is effective December 17, 2024.

The Director of the Federal Register approved the incorporation by reference of a certain publication listed in this AD as of December 17, 2024.

ADDRESSES:

AD Docket: You may examine the AD docket at regulations.gov under Docket No. FAA-2024-0464; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca; website tc.canada.ca/en/aviation.

• You may view this material at the FAA, Airworthiness Products Section, Operational Safety Branch, 2200 South 216th St., Des Moines, WA. For information on the availability of this material at the FAA, call 206-231-3195. It is also available at regulations.gov under Docket No. FAA-2024-0464.

FOR FURTHER INFORMATION CONTACT: Yaser Osman, Aviation Safety Engineer, FAA, 1600 Stewart Avenue, Suite 410, Westbury, NY 11590; phone: 860-386-1786; email: yaser.m.osman@faa.gov.

SUPPLEMENTARY INFORMATION:

Background

The FAA issued a notice of proposed rulemaking (NPRM) to amend 14 CFR part 39 to supersede AD 2021-09-03, Amendment 39-21516 (86 FR 20266, April 19, 2021); corrected April 27, 2021 (86 FR 22111) (AD 2021-09-03). AD 2021-09-03 applied to certain Airbus Canada Limited Partnership Model BD-500-1A10 and BD-500-1A11 airplanes. AD 2021-09-03 required repetitive replacements of the ELT antenna and repetitive inspections of the exterior fuselage skin around the ELT antenna attachment area. The FAA issued AD 2021-09-03 to address ELT antenna failure, which can lead to the loss of the ELT antenna and the development of fuselage cracks that can result in an inability to maintain cabin pressure.

The NPRM published in the Federal Register on March 11, 2024 (89 FR 17343). The NPRM was prompted by AD CF-2022-67, dated December 6, 2022 (Transport Canada AD CF-2022-67) (also referred to as the MCAI), issued by Transport Canada, which is the aviation authority for Canada. The MCAI states that since Transport Canada AD CF-2021-10 (corresponds to AD 2021-09-03) was issued, an aluminum ELT antenna has been made available to prevent ELT antenna failures resulting from vibration loads induced by air vortices shed by the Gogo 2Ku antenna radome. In addition, there was an in-service failure of an ELT antenna that occurred before the repetitive replacement interval required by Transport Canada AD CF-2021-10 was reached. The MCAI also states installation of the aluminum ELT antenna terminates the requirements of Transport Canada CF-2022-67, and that the applicability has been limited to airplanes on which the aluminum ELT antenna has not been installed in production.

In the NPRM, the FAA proposed to continue to require the actions in AD 2021-09-03 and replacement of the ELT antenna with a new ELT antenna, inspection of the exterior fuselage skin around the ELT antenna attachment holes, and repair if necessary, as specified in Transport Canada AD CF-2022-67. The FAA is issuing this AD to address ELT antenna failure, which can lead to the loss of the ELT antenna and the development of fuselage cracks that can result in an inability to maintain cabin pressure.

You may examine the MCAI in the AD docket at regulations.gov under Docket No. FAA-2024-0464.

Discussion of Final Airworthiness Directive

Comments

The FAA received one comment from a single commenter, Delta Air Lines (Delta). The following presents the comment received on the NPRM and the FAA's response to each comment.

Request To Clarify Applicability

Delta requested the FAA revise the applicability of the proposed AD to clarify it does not apply to airplanes that are not equipped with a Gogo 2Ku antenna radome, part number (P/N) P23743-605 or P/N P23743-606, as identified in the applicability of Transport Canada AD CF-2022-67. Delta stated that for AD 2021-09-03 (corresponding to Transport Canada AD CF-2021-10), the FAA clarified that if an airplane is not equipped with the part numbers identified in the applicability of Transport Canada AD CF-2021-10, then the requirements of AD 2021-09-03 do not apply to that airplane. As justification for its request, Delta noted that the applicability of Transport Canada AD CF-2021-10 mirrors the applicability of Transport Canada AD CF-2022-67.

The FAA agrees that if an airplane is not equipped with an affected part number identified in the MCAI referenced in paragraph (c) of this AD, then this AD does not apply to that airplane. The FAA has not changed this AD in this regard.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

Transport Canada AD CF-2022-67 specifies procedures for:

• Repetitive replacements of the ELT antenna with a new ELT antenna and repetitive inspections for damage (including cracking) of the exterior fuselage skin around the ELT antenna attachment area, and

• A one-time replacement of the ELT antenna with a new aluminum ELT antenna, and detailed inspection for damage (including cracking) of the exterior fuselage skin around the ELT antenna attachment holes, and repair of any damage, which terminate the repetitive replacements and inspections.

This material is reasonably available because the interested parties have access to it through their normal course of business or by the means identified in the ADDRESSES section.

Costs of Compliance

The FAA estimates that this AD affects 56 airplanes of U.S. registry. The FAA estimates the following costs to comply with this AD:

Estimated Costs for Required Actions
Action | Labor cost | Parts cost | Cost per product | Cost on U.S. operators
Retained actions from AD 2021-09-03 | 4 work-hours × $85 per hour = $340 | $4,230 | $4,570 | $255,920
New actions | 4 work-hours × $85 per hour = $340 | 5,561 | 5,901 | 330,456

The FAA estimates the following costs to do any necessary on-condition actions that are required based on the results of any required actions. The FAA has no way of determining the number of aircraft that might need these on-condition actions:

Estimated Costs of On-Condition Actions
Labor cost | Parts cost | Cost per product
4 work-hours × $85 per hour = $340 | $2,000 | $2,340

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-09-03, Amendment 39-21516 (86 FR 20266, April 19, 2021; corrected April 27, 2021 (86 FR 22111)); and

b. Adding the following new AD:

2024-22-04 Airbus Canada Limited Partnership (Type Certificate Previously Held by C Series Aircraft Limited Partnership (CSALP); Bombardier, Inc.): Amendment 39-22875; Docket No. FAA-2024-0464; Project Identifier MCAI-2022-01556-T.

(a) Effective Date

This airworthiness directive (AD) is effective December 17, 2024.

(b) Affected ADs

This AD replaces AD 2021-09-03, Amendment 39-21516 (86 FR 20266, April 19, 2021); corrected April 27, 2021 (86 FR 22111) (AD 2021-09-03).

(c) Applicability

This AD applies to Airbus Canada Limited Partnership (Type Certificate previously held by C Series Aircraft Limited Partnership (CSALP); Bombardier, Inc.) Model BD-500-1A10 and BD-500-1A11 airplanes, certificated in any category, as identified in Transport Canada AD CF-2022-67, dated December 6, 2022 (Transport Canada AD CF-2022-67).

(d) Subject

Air Transport Association (ATA) of America Code 25, Equipment/furnishings; 53, Fuselage.

(e) Unsafe Condition

This AD was prompted by reports of the failure of emergency locator transmitter (ELT) antennas, including an in-service failure that occurred before the repetitive replacement interval required by AD 2021-09-03, and by the development of a terminating action. The FAA is issuing this AD to address ELT antenna failure. The unsafe condition, if not addressed, could result in loss of the ELT antenna and the development of fuselage cracks that can result in an inability to maintain cabin pressure.

(f) Compliance

Comply with this AD within the compliance times specified, unless already done.

(g) Requirements

Except as specified in paragraph (h) of this AD: Comply with all required actions and compliance times specified in, and in accordance with, Transport Canada AD CF-2022-67.

(h) Exception to Transport Canada AD CF-2022-67

(1) Where Transport Canada AD CF-2022-67 refers to its effective date, this AD requires using the effective date of this AD.

(2) Where Transport Canada AD CF-2022-67 refers to April 1, 2021 (the effective date of Transport Canada AD CF-2021-10, dated March 18, 2021), this AD requires using May 4, 2021 (the effective date of AD 2021-09-03).

(3) Where Transport Canada AD CF-2022-67 refers to hours air time, this AD requires using flight hours.

(4) Where paragraph C of Transport Canada AD CF-2022-67 specifies to “replace the ELT antenna with a new aluminum ELT antenna and inspect the exterior fuselage skin around the ELT antenna attachment holes for damage, repairing any damage found before further flight,” this AD requires replacing that text with “replace the ELT antenna with a new aluminum ELT antenna, including doing an inspection of the exterior fuselage skin around the ELT antenna attachment holes for damage, and, before further flight, repair any damage found.”

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (j) of this AD. Information may be emailed to: 9-AVS-NYACO-COS@faa.gov.

(i) Before using any approved AMOC, notify your appropriate principal inspector, or lacking a principal inspector, the manager of the responsible Flight Standards Office.

(ii) AMOCs approved previously for AD 2021-09-03 are not approved as AMOCs for the corresponding provisions of Transport Canada AD CF-2022-67 that are required by paragraph (g) of this AD.

(2) Contacting the Manufacturer: For any requirement in this AD to obtain instructions from a manufacturer, the instructions must be accomplished using a method approved by the Manager, International Validation Branch, FAA; or Transport Canada; or Airbus Canada Limited Partnership's Transport Canada Design Approval Organization (DAO). If approved by the DAO, the approval must include the DAO-authorized signature.

(j) Additional Information

For more information about this AD, contact Yaser Osman, Aviation Safety Engineer, FAA, 1600 Stewart Avenue, Suite 410, Westbury, NY 11590; phone: 860-386-1786; email: yaser.m.osman@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) Transport Canada AD CF-2022-67, dated December 6, 2022.

(ii) [Reserved]

(3) For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca; website tc.canada.ca/en/aviation.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on October 24, 2024.
Peter A. White,
Deputy Director, Integrated Certificate Management Division, Aircraft Certification Service.

[FR Doc. 2024-25977 Filed 11-8-24; 8:45 am]

BILLING CODE 4910-13-P